DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by October 27, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Zoological Society of Philadelphia, PA, PRT-126270.

The applicant requests a permit to import 15 captive-born tamarins (Saguinus bicolor) for the purpose of enhancement of the survival of the species.

Applicant: Zoological Society of Philadelphia, PA, PRT-126543.

The applicant requests a permit to import serum from one wild origin captive-held female jaguar (Panthera onca) from La Aurora Zoo, Guatemala, for the purpose of enhancement of the survival of the species.

Applicant: Zoological Society of Philadelphia, PA, PRT-126542.

The applicant requests a permit to import one wild origin captive-held female jaguar (Panthera onca) from La Aurora Zoo, Guatemala, for the purpose of enhancement of the survival of the species.

Applicant: Zoological Society of Philadelphia, PA, PRT-126541.

The applicant requests a permit to import one wild origin captive-held male jaguar (Panthera onca) from Belize Zoo, Belize, for the purpose of enhancement of the survival of the species.

Applicant: Nathaniel J. Dominy, University of California, Santa Cruz, CA, PRT-130146.

The applicant requests a permit to import biological samples from wild spider monkeys (Ateles geoffroyi frontatus and Ateles geoffroyi panamensis, and howler monkeys (Alouatta palliata) collected in Costa Rica, for the purpose of scientific research.

Dated: September 15, 2006.
Michael L. Carpenter,
Senior Permit Biologist, Branch of Permits, Division of Management Authority.

[FR Doc. E6-15769 Filed 9-26-06; 8:45 am]

BILLING CODE 4310-55-P